FEDERAL COMMUNICATIONS COMMISSION

Privacy Act System of Records

AGENCY: Federal Communications Commission.

ACTION: Notice; one new Privacy Act system of records.

SUMMARY: Pursuant to subsection (e)(4) of the Privacy Act of 1974, as amended (“Privacy Act”), 5 U.S.C. 552a, the FCC's Media Bureau (MB) proposes to add a new system of records, FCC/MB-2, “Broadcast Station Public Inspection Files.” The enactment of the Standardized and Enhanced Disclosure Requirements for Television Broadcast Licensee Public Interest Obligations and Extension of the Filing Requirement for Children's Television Programming Report (FCC Form 398), Second Report and Order, MM Docket 00-168, FCC 12-44, on April 27, 2012, adopted rules that require television broadcasters to submit their public filing information to the FCC to be posted in an on-line Broadcast Station Public Inspection File. The Commission's purpose for establishing this system of records, FCC/MB-2, “Broadcast Station Public Inspection Files,” is to cover the personally identifiable information (PII) that may be contained in the Broadcast Station Public Inspection Files.

DATES: In accordance with subsections (e)(4) and (e)(11) of the Privacy Act, any interested person may submit written comments concerning this new system of records on or before July 2, 2012. The Office of Information and Regulatory Affairs (OIRA), Office of Management and Budget (OMB), which has oversight responsibility under the Privacy Act to review the system of records, and Congress may submit comments on or before July 10, 2012. The proposed new system of records will become effective on July 10, 2012 unless the FCC receives comments that require a contrary determination. The Commission will publish a document in the Federal Register notifying the public if any changes are necessary. As required by 5 U.S.C. 552a(r) of the Privacy Act, the FCC is submitting reports on this proposed new system to OMB and Congress.

ADDRESSES: Address comments to Leslie F. Smith, Privacy Analyst, Performance Evaluation and Records Management (PERM), Room 1-C216, Federal Communications Commission (FCC), 445 12th Street SW., Washington, DC 20554, or via the Internet at Leslie.Smith@fcc.gov<mailto:Leslie.Smith@fcc.gov>.

FOR FURTHER INFORMATION CONTACT: Leslie F. Smith, Performance Evaluation and Records Management (PERM), Room 1-C216, Federal Communications Commission (FCC), 445 12th Street SW., Washington, DC 20554, (202) 418-0217, or via the Internet at Leslie.Smith@fcc.gov<mailto:Leslie.Smith@fcc.gov>.

SUPPLEMENTARY INFORMATION: As required by the Privacy Act of 1974, as amended, 5 U.S.C. 552a(e)(4) and (e)(11), this document sets forth notice of the proposed new system of records to be maintained by the FCC. This notice is a summary of the more detailed information about the proposed new system of records, which may be obtained or viewed pursuant to the contact and location information given above in the ADDRESSES section. The Commission's purpose for establishing this new system of records, FCC/MB-2, “Broadcast Station Public Inspection Files,” is to cover the personally identifiable information (PII) that may be contained in the Broadcast Station Public Inspection Files, which broadcasters are required to submit to the FCC to be posted in an on-line Broadcast Station Public Inspection File, as required by 47 CFR 73.3526 and 73.3527.

This notice meets the requirement documenting the proposed new system of records that is to be added to the systems of records that the FCC maintains, and provides the public, OMB, and Congress with an opportunity to comment.

FCC/MB-2

System Name:

Broadcast Station Public Inspection Files.

Security Classification:

The FCC's Security Operations Center (SOC) has not assigned a security classification to this system of records.

System Location:

Media Bureau (MB), Federal Communications Commission (FCC), 445 12th Street SW., Washington, DC 20554.

Categories of Individuals Covered by the System:

The categories of individuals in this system include, but are not limited to:

1. Individuals who are required to file personal information pertaining to their political campaigns and other requirements; and

2. Individuals who are associated with a television broadcast station license and are required to submit information under 47 CFR 73.3526 and 73.3527.

Categories of Records in the System:

The categories of records in this system may include, but are not limited to an individual's name, home address, home telephone number, personal cell phone number, personal email address(es), personal fax number, bank check routing number, credit card number, and other personal information (i.e., personally identifiable information (PII)) that stations may include in their public files, and which may be included in the PII contained in the documents, files, and records that television broadcast stations and certain individuals are required to submit to the FCC to be posted in the FCC's on-line Broadcast Station Public Inspection Files. FCC Rules do not require submission of bank check routing numbers and credit card numbers, but the broadcast stations may choose to include such information in their public files as a means of indicating fulfillment of contracts.

Authority for Maintenance of the System:

47 U.S.C. 151, 152, 154(i), 303, 307, and 315.

Purposes:

The Commission will be hosting all Broadcast Station Public Inspection Files in an online database. Stations have been required to maintain their public files at their main studios for decades, pursuant to 47 CFR 73.3526 and 73.3527. The Commission will now begin hosting such files online in order to make the files more accessible to the public. Records in this system are available for public inspection.

Routine Uses of Records Maintained in the System, Including Categories of Users and the Purposes of Such Uses:

Information about individuals in this system of records may routinely be disclosed under the following conditions:

1. Public Access—Under the rules of the Commission, documents filed under the Consolidated Database System (CDBS) or in the online Broadcast Station Public Inspection Files are available for public inspection;

2. Public Access—Copies of FCC enforcement actions are available for public inspection via the Internet at <http://www.fcc.gov/eb/>, and in the FCC's Reference Information Center at <http://www.fcc.gov/cgb/ric.html>;

3. Law Enforcement and Investigation—Where there is an indication of a violation or potential violation of a statute, regulation, rule, or order, records from this system may be shared with appropriate Federal, State, or local authorities either for purposes of obtaining additional information relevant to a FCC decision or for referring the record for investigation, enforcement, or prosecution by another agency;

4. Adjudication and Litigation—Where by careful review, the Agency determines that the records are both relevant and necessary to litigation and the use of such records is deemed by the Agency to be for a purpose that is compatible with the purpose for which the Agency collected the records, these records may be used by a court or adjudicative body in a proceeding when: (a) The Agency or any component thereof; or (b) any employee of the Agency in his or her official capacity; or (c) any employee of the Agency in his or her individual capacity where the Agency has agreed to represent the employee; or (d) the United States Government is a party to litigation or has an interest in such litigation;

5. Department of Justice—A record from this system of records may be disclosed to the Department of Justice (DOJ) or in a proceeding before a court or adjudicative body when:

(a) The United States, the Commission, a component of the Commission, or, when represented by the government, an employee of the Commission is a party to litigation or anticipated litigation or has an interest in such litigation, and

(b) The Commission determines that the disclosure is relevant or necessary to the litigation;

6. Congressional Inquiries—When requested by a Congressional office in response to an inquiry by an individual made to the Congressional office for the individual's own records;

7. Government-wide Program Management and Oversight—When requested by the General Services Administration (GSA), the National Archives and Records Administration (NARA), and/or the Government Accountability Office (GAO) for the purpose of records management inspections conducted under authority of 44 U.S.C. 2904 and 2906 (such disclosure(s) shall not be used to make a determination about individuals); when the U.S. Department of Justice (DOJ) is contacted in order to obtain that department's advice regarding disclosure obligations under the Freedom of Information Act; or when the Office of Management and Budget (OMB) is contacted in order to obtain that office's advice regarding obligations under the Privacy Act;

8. Breach Notification—A record from this system may be disclosed to appropriate agencies, entities, and persons when: (1) The Commission suspects or has confirmed that the security or confidentiality of information in the system of records has been compromised; (2) the Commission has determined that as a result of the suspected or confirmed compromise there is a risk of harm to economic or property interests, identity theft or fraud, or harm to the security or integrity of this system or other systems or programs (whether maintained by the Commission or another agency or entity) that rely upon the compromised information; and (3) the disclosure made to such agencies, entities, and persons is reasonably necessary to assist in connection with the Commission's efforts to respond to the suspected or confirmed compromise and prevent, minimize, or remedy such harm;

9. FCC Enforcement Actions—When a record in this system involves a formal and/or informal complaint or inquiry filed alleging a violation of FCC Rules and Regulations by an applicant, licensee, certified or regulated entity or an unlicensed person or entity, the complaint may be provided to the alleged violator for a response. When an order or other Commission-issued document that includes consideration of a formal or informal complaint or complaints or inquiries is issued by the FCC to implement or to enforce FCC Rules and Regulations, the complainant's name or other PII may be made public in that order or document. Where a complainant in filing his or her complaint explicitly requests confidentiality of his or her name or other PII from public disclosure, the Commission will endeavor to protect such information from public disclosure. Complaints that contain requests for confidentiality may be dismissed if the Commission determines that the request impedes the Commission's ability to investigate and/or resolve the complaint;

10. Due Diligence Inquiries—Where there is an indication of a violation or potential violation of FCC Rules and Regulations (as defined above), records from this system may be shared with a requesting individual, or representative thereof, for purposes of obtaining such information so long as relevant to a pending transaction of a FCC-issued license; and

11. Financial Obligations under the Debt Collection Acts—A record from this system may be disclosed to other Federal agencies for the purpose of collecting and reporting on delinquent debts as authorized by the Debt Collection Act of 1982 or the Debt Collection Improvement Act of 1996. A record from this system may be disclosed to any Federal, state, or local agency to conduct an authorized computer matching program in compliance with the Privacy Act of 1974, as amended, to identify and locate individuals who are delinquent in their repayment of certain debts owed to the U.S. Government. A record from this system may be used to prepare information on items considered income for taxation purposes to be disclosed to Federal, state, and local governments.

In each of these cases, the FCC will determine whether disclosure of the records is compatible with the purpose(s) for which the records were collected.

Disclosure to Consumer Reporting Agencies:

None.

Policies and Practices for Storing, Retrieving, Accessing, Retaining, and Disposing of Records in the System:

Storage:

The information in the Broadcast Station Public Inspection Files includes electronic data, records, and files that are stored in the FCC's computer network databases.

Retrievability:

Information in the Broadcast Station Public Inspection Files electronic databases can be retrieved by categories of information that each individual must provide as required by 47 CFR 73.3526 and 73.3527, including the individual's name(s), street address, email address(es), landline phone and cell phone number(s), complainant(s), and file identification name and/or number, etc.

Safeguards:

Access to the information, e.g., electronic records, files, and data, in the Broadcast Station Public Inspection Files, which is housed in the FCC computer network databases, is posted on the Internet to be publicly accessible. Only the broadcast stations who upload information into the broadcast station files can alter their information. The FCC's computer network databases are protected by the FCC's security protocols, which include controlled access, passwords, and other IT security features and requirements. Information resident on the database servers is backed-up routinely onto magnetic media. Back-up tapes are stored on-site and at a secured off-site location.

Retention and Disposal:

The FCC will retain these records until a records schedule has been approved by the National Archives and Records Administration (NARA).

System Managers and Address:

Address inquiries to the Media Bureau (MB), Federal Communications Commission (FCC), 445 12th Street SW., Washington, DC 20554.

Notification Procedure:

Address inquiries to the Media Bureau (MB), Federal Communications Commission (FCC), 445 12th Street SW., Washington, DC 20554.

Record Access Procedures:

Address inquiries to the Media Bureau (MB), Federal Communications Commission (FCC), 445 12th Street SW., Washington, DC 20554.

Contesting Record Procedures:

Address inquiries to the Media Bureau (MB), Federal Communications Commission (FCC), 445 12th Street SW., Washington, DC 20554.

Record Source Categories:

The sources for the information in the Broadcast Station Public Inspection Files include, but are not limited to the PII that may be included in the documents, records, and files that television broadcasters are required to submit to the FCC for posting in the FCC's on-line Broadcast Station Public Inspection Files as required by 47 U.S.C. 315; 47 CFR 73.3526 and 73.3527.

Exemptions Claimed for the System:

None.

Federal Communications Commission.
Marlene H. Dortch,
Secretary, Office of the Secretary, Office of Managing Director.

[FR Doc. 2012-13128 Filed 5-30-12; 8:45 am]

BILLING CODE 6712-01-P